DEPARTMENT OF HEALTH AND HUMAN SERVICES

National Institutes of Health

Center for Scientific Review Amended Notice of Meeting

Notice is hereby given of a change in the meeting of the Cardiovascular and Sleep Epidemiology Study Section, October 13, 2011, 8:30 a.m. to October 13, 2011, 5 p.m., Bethesda Marriott, 5151 Pooks Hill Road, Bethesda, MD 20814 which was published in the Federal Register on September 7, 2011, 76 FR 55400-55402.

The meeting will be held October 6, 2011 from 8:30 a.m. to 7:00 p.m. The meeting location remains the same. The meeting is closed to the public.

Dated: September 14, 2011.
Jennifer S. Spaeth,
Director, Office of Federal Advisory Committee Policy.

[FR Doc. 2011-24144 Filed 9-19-11; 8:45 am]

BILLING CODE 4140-01-P